DEPARTMENT OF THE INTERIOR

Fish and Wildlife Service

Availability of an Environmental Assessment and Receipt of an Application for an Incidental Take Application for a Road Project in the City of Highland, San Bernardino County, CA

AGENCY: Fish and Wildlife Service, Interior.

ACTION: Notice of availability and receipt of application.

SUMMARY: The City of Highland, California (the Applicant) has applied to the Fish and Wildlife Service for an incidental take permit pursuant to section 10(a)(1)(B) of the Endangered Species Act of 1973, as amended. The Service proposes to issue a 5-year permit to the Applicant that would authorize take of the endangered San Bernardino kangaroo rat (Dipodomys merriami parvus) incidental to otherwise lawful activities. Such take would occur during the construction of new roadway surfaces, sidewalks, pedestrian walkways, and storm drains. Project construction would be performed by the Metropolitan Water District during construction of their Inland Feeder Project across Boulder Avenue and Base Line Street in the City of Highland. This project would permanently eliminate 0.046 acres of occupied habitat for the San Bernardino kangaroo rat.

We request comments from the public on the permit application and Environmental Assessment, which are available for review. The permit application includes the proposed Habitat Conservation Plan (Plan) and an Implementing Agreement (legal contract). The Plan describes the proposed project and the measures that the Applicant would undertake to minimize and mitigate take of the San Bernardino kangaroo rat.

This notice is provided pursuant to section 10(a) of the Endangered Species Act and National Environmental Policy Act regulations (40 CFR 1506.6). All comments received, including names and addresses, will become part of the official administrative record and may be made available to the public.

DATES: We must receive written comments on or before January 2, 2001.

ADDRESSES: Please address written comments to Mr. Jim Bartel, Assistant Field Supervisor, Fish and Wildlife Service, 2730 Loker Avenue West, Carlsbad, California 92008. You also may send comments by facsimile to (760) 431-5902.

FOR FURTHER INFORMATION CONTACT: Mr. Jim Bartel, Assistant Field Supervisor, at the above address or call (760) 431-9440.

SUPPLEMENTARY INFORMATION:

Availability of Documents

You may obtain copies of these documents for review by contacting the above office. Documents also will be available for public inspection, by appointment, during normal business hours at the above address and at the City of Highland Offices, the Highland Branch Library, and the Highland Police Station.

Background

Section 9 of the Endangered Species Act and Federal regulation prohibit the “take” of fish or wildlife species listed as endangered or threatened, respectively. Take of listed fish or wildlife is defined under the Act to include kill, harm, or harass. The Service may, under limited circumstances, issue permits to authorize take that is incidental to, and not the purpose of, the carrying out of an otherwise lawful activity. Regulations governing incidental take permits for threatened and endangered species are found in 50 CFR 17.32 and 17.22, respectively.

The Applicant has proposed roadway and storm drain improvements to Base Line Street and Boulder Avenue in the City of Highland, California. Typical land uses in the area surrounding the project site include several residential developments, commercial centers, and undeveloped alluvial fan sage scrub areas in City Creek.

Biologists surveyed the project sites for special status plants and wildlife in 1994, 1998, and 1999. Based on these surveys and previous knowledge of the area, the Service concluded that the project may result in the take of one federally listed species, the endangered San Bernardino kangaroo rat.

The Applicants propose to implement the following measures to minimize and mitigate take of the San Bernardino kangaroo rat: (1) Exclude animals from the construction area by means of pre-construction trapping, relocation, and construction of a barrier fence; (2) monitor all project activities by a Service-approved biologist during clearing of sage scrub vegetation; (3) restrict contractor movements, prohibit pets on-site, and install temporary fencing to protect the adjacent biological resources during construction; (4) use the previously-permitted Metropolitan Water District construction staging area for staging during this project; (5) reduce the width of the pedestrian parkway on Boulder Avenue adjacent to occupied habitat from 20 to 12 feet in width and eliminate the 6-foot-wide pedestrian walkway on the south side of Base Line Street; (6) recontour and revegetate 0.023 acres of alluvial fan sage scrub habitat and control weeds in the revegetation area for 2 years; (7) shield all lights to direct night-time lighting away from occupied habitat; (8) install signs along sidewalks and trails in the vicinity of occupied habitat that notify the public of endangered species habitat and the necessity to stay on designated trails and sidewalks; and (9) mitigate the loss of 0.046 acres of alluvial fan sage scrub habitat by purchasing 1 acre of San Bernardino kangaroo rat habitat at the CalMat Mitigation Bank in San Bernardino County, California.

The Environmental Assessment considers the environmental consequences of the Proposed Action and two alternatives. The Proposed Action consists of the issuance of an incidental take permit and implementation of the Plan and its Implementing Agreement, which include measures to minimize and mitigate impacts of the project to the San Bernardino kangaroo rat. Alternative 2 (Modification of the Site Design) would also require a Habitat Conservation Plan and issuance of an incidental take permit. This alternative assumes a 6-foot wide graded dirt parkway on the north and south sides of Base Line Street and a 20-foot wide graded dirt parkway on the east side of Boulder Avenue. This alternative would result in a total of 1.6 acres of disturbance to occupied San Bernardino kangaroo rat habitat, a 1.55-acre increase over the Proposed Action. Under the No Action Alternative, the Service would not issue a permit, the existing roadway conditions would remain unchanged, pedestrian traffic would continue along the unpaved shoulders of Base Line Street, and non-native, invasive plant species would not be managed at the site. The two alternatives would result in less habitat value for the San Bernardino kangaroo rat than the off-site mitigation proposed under the Proposed Action.

This notice is provided pursuant to section 10(a) of the Endangered Species Act and the National Environmental Policy Act of 1969 regulations (40 CFR 1506.6). We will evaluate the application, associated documents, and comments submitted thereon to determine whether the application meets the requirements of the National Environmental Policy Act regulations and section 10(a) of the Endangered Species Act. If we determine that those requirements are met, then we will issue a permit to the Applicants for incidental take of the San Bernardino kangaroo rat. Our final permit decision will be made no sooner than 60 days from the date of this notice.

Dated: October 26, 2000.
John Engbring,
Deputy Manager, California/Nevada Operations Office, Sacramento, California.

[FR Doc. 00-28070 Filed 11-1-00; 8:45 am]

BILLING CODE 4310-55-P